Title 3—

The President

Proclamation 7832 of October 15, 2004

National Mammography Day, 2004

By the President of the United States of America

A Proclamation

Approximately one in seven women in the United States will develop breast cancer over her lifetime. Mammograms are critical for early detection of breast cancer and remain the most effective screening tool available today. Many women who develop breast cancer have no history of the disease in their families, and except for growing older, most have no strong risk factors. Regular mammogram screening, along with a clinical breast exam by a medical professional, can help identify breast cancer in its earliest stages when it is most treatable. On National Mammography Day, we underscore the importance of this life-saving technology.

The National Cancer Institute and the United States Preventive Services Task Force recommend a mammogram every 1 to 2 years for women age 40 and over. Strict guidelines help to ensure that mammograms are administered with the lowest possible doses of radiation by the best-trained medical staff. Scientists continue to study ways to improve mammograms and other screening technologies, and this research promises to make screening even more accurate and further reduce the number of breast cancer deaths.

My Administration is committed to preventing, detecting, treating, and ultimately finding a cure for breast cancer. Through an early detection program at the Centers for Disease Control and Prevention, we have devoted over $200 million for promoting mammography use and helping low-income women afford screening for breast and cervical cancer. In addition, the National Institutes of Health is conducting the largest trial ever of new, early-detection technologies to help doctors target breast cancer before symptoms occur.

My Administration will continue working to ensure that America's women have access to the best screening services available. I urge women, especially those 40 and over, to talk to their doctors about breast cancer screening and to encourage their friends and family to do the same. Together, we can help save lives and build a healthier future for all our citizens.

NOW, THEREFORE, I, GEORGE W. BUSH, President of the United States of America, by virtue of the authority vested in me by the Constitution and laws of the United States, do hereby proclaim October 15, 2004, as National Mammography Day. I call on all Americans to observe this day with appropriate programs and activities recognizing our health care professionals and researchers for their contributions in helping to detect and treat breast cancer.

IN WITNESS WHEREOF, I have hereunto set my hand this fifteenth day of October, in the year of our Lord two thousand four, and of the Independence of the United States of America the two hundred and twenty-ninth.

B

[FR Doc. 04-23621

Filed 10-19-04; 8:45 am]

Billing code 3195-01-P